DEPARTMENT OF DEFENSE

Department of the Army; Corps of Engineers

Availability of the Revised Draft Environmental Impact Statement for the Platte West Water Production Facilities, Douglas and Saunders Counties, Nebraska

AGENCY: U.S. Army Corps of Engineers, DoD.

ACTION: Notice of availability.

SUMMARY: In accordance with the National Environmental Policy Act and implementing regulations, a revised Draft Environmental Impact Statement (DEIS) has been prepared to evaluate the environmental impacts of the Metropolitan Utilities District's (MUD's) preferred water supply expansion location (Platte West) as well as other reasonable alternatives to that location. The environmental impacts of each of the five action alternatives, as well as the “no action” alternative are described in the DEIS. Public comment on the DEIS will be accepted by the Corps through April 13, 2001. A public workshop will be held from 7 p.m. to 9 p.m. on Wednesday, March 21 in the Russell Middle School cafeteria at 5304 South 172nd Street, Omaha, Nebraska. The public is invited to view displays related to the project and provide comments to the Corps.

FOR FURTHER INFORMATION CONTACT: Questions and comments regarding the DEIS can be addressed to Becky Latka, U.S. Army Corps of Engineers, 215 North 17th Street, Omaha, Nebraska 68102-4978, telephone at (402) 221-4602, or E-Mail rebecca.j.latka@usace.army.mil

SUPPLEMENTARY INFORMATION: MUD's preferred Platte West alternative is located in Douglas and Saunders Counties, and consists of 40 to 46 vertical wells that would withdraw groundwater to provide additional water for future growth of the Omaha metropolitan area. It is anticipated that the 30-year project could impact wetland habitat, as well as result in Platte River depletions. However, the location of the Platte West site, which is situated near future growth areas, as well as the quality and volume of water available at the site and the relatively low cost of the water, make the Platte West site the preference for MUD. Information on the costs and environmental impacts of the six alternatives (which includes the no-action alternative) are detailed in the DEIS.

Currently, the water supply for the Omaha metropolitan area consists of the Florence water treatment plant (67.5% of total capacity) which gets its water from the Missouri River, and the Platte South wellfield (25.5% of total capacity) which gets water from the groundwater in the Platte River aquifer. The remaining water (7% of total capacity) comes from smaller wellfields in Millard and Elkhorn. One of the purposes of the wellfield expansion project is to diversify the water supply so Omaha is not as dependent on any one water source as the city is currently. This diversification concept or planned redundancy increases the reliability of the overall water supply system by providing a back-up water supply in the event of an interruption of water supply or contamination of source water.

The Corps' role in this process is to determine whether a Section 404 (Clean Water Act) permit should be issued, issued with conditions, or denied. The Corps is neither a proponent nor opponent of the project, but is required through the National Environmental Policy Act to disclose the impacts of the project and reasonable alternatives.

An earlier DEIS was released for public comment in February of 1999. Numerous public and agency comments were received at that time. In the process of addressing these comments, additional reasonable alternatives were identified and included in the NEPA process, which has resulted in the release of a revised DEIS. The public may comment on the full range of alternatives now available. MUD's preferred alternative has remained the same for both DEIS's, although estimated Platte River depletions and estimated wetland impacts have each decreased slightly from the 1999 proposal. A public hearing to comply with the Section 404 permit process has already been held in conjunction with public meetings in 1999.

If the proposed Platte West alternative is permitted, land use changes could be expected in the vicinity of the wellfields over the next 30 years, and could also result in impacts to the Two Rivers State Recreation Area near Venice, Nebraska. A separate agreement between the Commission and MUD would allow for funding for deepening the lakes in mitigation for the groundwater reduction.

Additionally, a trust fund consisting of nearly $1 million will be established, if the Platte West alternative is permitted, in order to compensate for Platte River depletions. The intent is to use the fund to develop a backwater area and wetland mitigation site near LaPlatte, Nebraska. This proposed plan for mitigation is being coordinated with various agencies.

Dated: March 7, 2001.
Mark E. Tillotson,
Colonel, Corps of Engineers, District Engineer.

[FR Doc. 01-5535 Filed 3-6-01; 8:45 am]

BILLING CODE 3710-62-U